DEPARTMENT OF ENERGY

Federal Energy Regulatory Commission

[Docket No. EL02-42-000]

Dynegy Power Marketing, Inc., Mirant Americas Energy Marketing, LP, Mirant California, LLC, and Williams Energy Marketing & Trade, Complainants, v. California Independent System Operator Corporation, Respondent; Notice of Complaint

December 19, 2001.

Take notice that on December 18, 2001, Dynegy Power Marketing, Inc., Mirant Americas Energy Marketing, LP, Mirant California, LLC, and Williams Energy Marketing & Trading Company (Complainants) submitted a complaint against the California Independent System Operator Corporation (CAISO) alleging that the CAISO is acting unlawfully by implementing changes to its operating procedures related to Intra-Zonal Congestion Management and implementing market rule modifications for importers without first seeking authorization under section 205 of the Federal Power Act. Complainants further allege that certain operating procedures violate the terms of the Commission-approved reliability must-run contracts.

Accordingly, Complainants request that the Commission issue an immediate order directing the CAISO to operate under its prior operating procedures until such time as the CAISO has received all Commission authorizations to make these changes. Complainants also request that Commission Staff hold a technical conference to develop a 60-minute market.

Copies of this filing were served upon the CAISO and other interested parties.

Any person desiring to be heard or to protest this filing should file a motion to intervene or protest with the Federal Energy Regulatory Commission, 888 First Street, NE., Washington, DC 20426, in accordance with rules 211 and 214 of the Commission's rules of practice and procedure (18 CFR 385.211 and 385.214). All such motions or protests must be filed on or before January 7, 2002. Protests will be considered by the Commission in determining the appropriate action to be taken, but will not serve to make protestants parties to the proceeding. Any person wishing to become a party must file a motion to intervene. Answers to the complaint shall also be due on or before January 7, 2002. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31991 Filed 12-27-01; 8:45 am]

BILLING CODE 6717-01-P